DEPARTMENT OF HOMELAND SECURITY

Coast Guard

[Docket No. USCG-2024-0231]

National Commercial Fishing Safety Advisory Committee; April 2024 Meetings

AGENCY: U.S. Coast Guard, Department of Homeland Security.

ACTION: Notice of open Federal advisory committee meetings.

SUMMARY: The National Commercial Fishing Safety Advisory Committee (Committee) will conduct a series of meetings over three days to review, discuss, and make recommendations to the Secretary on matters relating to marine investigation cases and other relevant initiatives pertaining to commercial fishing vessels (CFVs). For more detailed information see section VII below.

DATES:

Meetings: The Committee will hold a meeting on Tuesday, April 9, 2023, from 8 a.m. until 5 p.m. eastern daylight time (EDT), Wednesday, April 10, 2023, from 8 a.m. until 5 p.m. EDT, and Thursday, April 11, 2024, from 8 a.m. until 5 p.m. EDT. The Committee meeting on Tuesday, April 9, 2024, from 9 a.m. to 10 a.m. EDT will be dedicated to an administrative meeting (Committee members only). Please note these meetings may close early if the Committee has completed its business.

Comments and supporting documentation: To ensure your comments are received before the meeting, please submit your written comments no later than April 2, 2024.

ADDRESSES: The meeting will be held at the Hampton Inn and Suites, 19 South 2nd Street Fernandina Beach, Florida 32034.

The National Commercial Fishing Safety Advisory Committee is committed to ensuring all participants have equal access regardless of disability status. If you require reasonable accommodation due to a disability to fully participate, please email Mr. Jonathan Wendland at Jonathan.G.Wendland@uscg.mil or call at 202-372-1245 as soon as possible.

Instructions: You are free to submit comments at any time, including orally at the meetings as time permits, but if you want your comment reviewed before the meetings, please submit your comments no later than April 2, 2023. We are particularly interested in comments regarding the topics in the “Agenda” section below. We encourage you to submit comments through Federal Decision Making Portal at https://www.regulations.gov. To do so, go to https://www.regulations.gov, type USCG-2024-0231 in the search box and click “Search”. Next, look for this document in the Search Results column, and click on it. Then click on the Comment option. If you cannot submit your material using https://www.regulations.gov, call or email the individual in the FOR FURTHER INFORMATION CONTACT section of this document for alternate instructions. You must include the docket number USCG-2024-0231. Comments received will be posted without alteration at https://www.regulations.gov including any personal information provided. You may wish to review the Privacy and Security Notice found via link on the homepage of https://www.regulations.gov. For more about privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov, and can be viewed by following that website's instructions. Additionally, if you go to the online docket and sign-up for email alerts, you will be notified when comments are posted.

FOR FURTHER INFORMATION CONTACT: Mr. Jonathan Wendland, Alternate Designated Federal Officer (ADFO) of the National Commercial Fishing Safety Advisory Committee, telephone 202-372-1245 or Jonathan.G.Wendland@uscg.mil.

SUPPLEMENTARY INFORMATION: Notice of this meeting is in compliance with the Federal Advisory Committee Act, (Pub. L. 117-286, 5 U.S.C. ch. 10). The National Commercial Fishing Safety Advisory Committee is authorized by section 601 of the Frank LoBiondo Coast Guard Authorization Act of 2018, (Pub. L. 115-282, 132 Stat. 4190), and is codified in 46 U.S.C. 15102. The Committee operates under the provisions of the Federal Advisory Committee Act and 46 U.S.C. 15109. The National Commercial Fishing Safety Advisory Committee provides advice and recommendations to the Secretary of Homeland Security through the Commandant of the U. S. Coast Guard, on matters relating to the safe operation of vessels including the matters of:

(A) navigation safety;

(B) safety equipment and procedures;

(C) marine insurance;

(D) vessel design, construction, maintenance, and operation; and

(E) personnel qualifications and training;

Additionally, the Committee will review regulations proposed under chapter 45 of title 46 of U.S Code (during preparation of the regulations) and review marine casualties and investigations of vessels covered by chapter 45 of title 46 U.S. Code and make recommendations to the Secretary to improve safety and reduce vessel casualties.

Agenda

Day 1

The agenda for the National Commercial Fishing Safety Advisory Committee is as follows:

I. Opening

a. Call to Order/Designated Federal Officer (DFO) Remarks.

b. Roll Call/Determination of Quorum.

c. Swear in New Members (as applicable).

d. U.S. Coast Guard Leadership Remarks.

II. Administration

a. Review and Adoption of Meeting Agenda.

b. Meeting Goals.

c. Roberts Rules Simplified.

III. General Updates

a. Old Business.

b. New Business.

IV. Information Session

a. Shipboard Communication Technologies: CG-672.

b. Mariner Credentials: CG-MMC.

c. Liferaft Service Intervals: CG-ENG.

d. Marine Casualty Case Familiarization. CG-INV.

V. Public Comment period.

VI. Meeting Recess.

Day 2

VII. U.S. Coast Guard (USCG) Committee Tasking

a. Task Statement #11-23 (ongoing initiative from Fall 2023 NCFSAC meeting). Review and provide recommendations on the development of a publicly accessible website that contains all information related to fishing industry activities, including vessel safety, inspections enforcement, hazards, training, regulations (including proposed regulations), outages of the Rescue 21 system in Alaska and similar outages, and any other fishing-related activities.

b. Task Statement #14-24: Committee make recommendations on processes to assess, document, and maintain mariner competency to operate CFVs of less than 200 GRT, including local knowledge and recency.

c. Task Statement #15-24: Committee make recommendations regarding whether the USCG should explore obtaining legislative authority to require CFV operators of less than 200 GT hold a valid USCG issued Merchant Mariner's Credential (MMC), and additional measures to require crewmembers on CFVs hold crew competency certificates or Merchant Mariner's Document.

d. Task Statement #16-24: Committee make recommendations on the feasibility of a multi-year phase-in implementation that all CFV mariners on CFVs of less than 200 GT and operating three miles beyond the baseline in a near-coastal zone obtain and maintain a Merchant Mariner Credential (without a Transportation Worker Identification Credential (TWIC) requirement).

e. Task Statement #17-24: Committee make recommendations on the feasibility of a multi-year phase-in implementation that all CFV mariners serving as a Master/Operator of a CFVs of less than 200 GT and operating three miles beyond the baseline in a near-coastal zone obtain and maintain an Operator of Uninspected Passenger Vessels (OUPV) Merchant Mariner Credential (without a TWIC requirement).

f. Task Statement #18-24: Committee make recommendations on liferaft service interval impacts with the commercial fishing industry and make recommendations to the USCG.

g. Task Statement #19-24: Make recommendations to the USCG on a Committee Special Recognition Award that acknowledges substantial accomplishments and contributions to fishing industry safety.

h. Task Statement #20-24: Committee make recommendations on processes to review and implement commercial fishing vessel mariner fitness-for-duty for service onboard CFVs of less than 200 GT fitness for duty and service should include an assessment of overall health and physical fitness and contain provisions for the elimination drug and alcohol usage and management of fatigue.

i. Task Statement #21-24: Committee develop guidance and make recommendations on fatigue limiting strategies as well as work/rest hour logging requirements.

j. Task Statement #22-24: Committee analyze fatigue and sleep deprivation impacts with the commercial fishing industry and make recommendations to the USCG.

VIII. Formation of Subcommittee(s) Break Out and Discussions.

a. Action Items by Task.

IX. Public Comment Period.

X. Committee Discussion/Actions.

XI. Meeting Recess.

Day 3

XII. Subcommittee Break Out and Discussions.

a. Action Items by Task.

XIII. Recommendations and Committee Actions.

XIV. Full Committee Open Discussion.

XV. Public Comment Period.

XVI. Plans for Next Meeting.

XVII. Closing Remarks/Committee and USCG.

XVIII. Adjournment of Meeting.

A copy of pre-meeting documentation will be available at https://www.dco.uscg.mil/NCFSAC2024/ no later than April 3, 2024. Alternatively, you may contact Mr. Jonathan Wendland as noted in the FOR FURTHER INFORMATION CONTACT section above.

There will be a public comment period scheduled each day of the meeting. Speakers are requested to limit their comments to 3 minutes. Please note that the public comment period may end before the period allotted, following the last call for comments. Please contact the individual listed in the FOR FURTHER INFORMATION CONTACT section to register as a speaker.

Dated: March 18, 2024.
Amy M. Beach,
Captain, U.S. Coast Guard, Director of Inspections and Compliance.

[FR Doc. 2024-06106 Filed 3-21-24; 8:45 am]

BILLING CODE 9110-04-P